DEPARTMENT OF TRANSPORTATION

Federal Highway Administration

[Docket No. FHWA-2018-00665]

Notice of Final Federal Agency Actions on Proposed Highway Project in Rhode Island

AGENCY: Federal Highway Administration (FHWA), Department of Transportation (DOT).

ACTION: Notice of correction.

SUMMARY: This notice corrects information in the January 19, 2018, Notice of Limitation on Claims for Judicial Review of Actions at 83 FR 2867 in reference to deletion of incorrect information regarding FHWA's assumed environmental responsibilities and Executive Order references that are not applicable.

DATES: Per the original notice, any claim seeking review of the Federal agency actions on this highway project will be barred unless filed on or before June 18, 2018. If the Federal law that authorizes judicial review of a claim provides a time period of less than 150 days for filing such claim, then that shorter time period still applies.

FOR FURTHER INFORMATION CONTACT: For questions about this technical correction, please contact Mr. Carlos E. Padilla-Fresse, MSCE, Program Delivery Supervisor, Federal Highway Administration Rhode Island Division, 380 Westminster Mall, Suite 601, Providence, Rhode Island 02903; (401) 528-4577; Carlos.Padilla@dot.gov. For the Rhode Island Department of Transportation (RIDOT), please contact Mr. David Fish, P.E., Administrator of Project Management, Rhode Island Department of Transportation, Two Capitol Hill, Providence, Rhode Island 02903-1124, (401) 222-2023, david.fish@dot.ri.gov. Business hours for FHWA and RIDOT are 8:00 a.m. to 4:30 p.m. (Eastern Standard Time), Monday through Friday, except Federal Holidays.

SUPPLEMENTARY INFORMATION:

Electronic Access

An electronic copy of this document is available on the Federal Register website at http://www.archives.gov and the Government Publishing Office's database at http://www.access.gpo.gov/nara.

Background

On January 19, 2018, FHWA posted a Federal Register notice at 83 FR 2867 announcing a limitation of claims for the following highway project in the State of Rhode Island: Toll Locations 1 and 2 in the Towns of Hopkinton, Richmond, and Exeter. The actions by FHWA, and the laws under which such actions were taken, are described in the Environmental Assessment (EA) for the project approved on December 15, 2017, and a Finding of No Significant Impact (FONSI) issued on December 20, 2017. The EA, FONSI, and other project records are available by contacting FHWA or the Rhode Island Department of Transportation at the addresses provided above. The EA and FONSI can be viewed and downloaded from the project website at http://www.dot.ri.gov/rhodeworks/.

The January 19 notice incorrectly stated that FHWA assumed environmental responsibilities for this project pursuant to 23 U.S.C. 327. The FHWA clarifies that 23 U.S.C. 327 is not applicable here and that Federal environmental review responsibilities remain with FHWA for this project. That notice also incorrectly listed 5 Executive Orders in paragraph 10: E.O. 11514, Protection and Enhancement of Environmental Quality; E.O. 11593, Protection and Enhancement of Cultural Resources; E.O. 13007, Indian Sacred Sites; E.O. 13287, Preserve America; and E.O. 13112, Invasive Species. The FHWA clarifies that it only intended to list the following: E.O. 11990, Protection of Wetlands; E.O. 12898, Federal Actions to Address Environmental Justice in Minority Populations and Low Income Populations; E.O. 11988, Floodplain Management; and E.O. 13175, Consultation and Coordination with Indian Tribal Governments.

Authority: 23 U.S.C. 139(l)(1).

Issued on: February 8, 2018.
Carlos C. Machado,
FHWA Rhode Island Division Administrator, Providence, Rhode Island.

[FR Doc. 2018-03139 Filed 2-14-18; 8:45 am]

BILLING CODE 4910-22-P